DEPARTMENT OF JUSTICE

Notice of Lodging of Proposed Stipulation and Order Under the Comprehensive Environmental Response, Compensation, and Liability Act

On November 20, 2017, the Department of Justice lodged a proposed Stipulation and Order with the United States Bankruptcy Court for the Southern District of New York in the bankruptcy proceedings entitled In re Hawker Beechcraft, Inc., et al., No. 12-11873 (SMB) (lead case).

The United States filed a proof of claim in the Chapter 11 bankruptcy case of Hawker Beechcraft Corporation, seeking, inter alia, the recovery of past costs under the Comprehensive Environmental Response, Compensation and Liability Act, 42 U.S.C. 9601-9675 (“CERCLA”), incurred by the United States responding to contamination at the Tri-County Public Airport site (“TCPA Site”) in Morris County, Kansas. Under the proposed Stipulation and Order, Hawker Beechcraft Corporation and related and successor entities (the “Hawker Parties”) agree that the United States will have an allowed general unsecured claim of $738,336.62 for response costs incurred prior to the petition date, to be paid at the rate provided in the confirmed Chapter 11 plan of reorganization, and further agree that any claim for costs incurred on or after the petition date at the TCPA Site and three other Kansas sites (the Raytheon Aircraft Company Main Facility in Wichita, Kansas; Hangar 1 at Newton City-County Municipal Airport near Newton, Kansas; and Liberal Mid-America Regional Airport in Liberal, Kansas) is not discharged or impaired. Additionally, the Hawker Parties agree that they will comply with CERCLA administrative orders relating to the TCPA Site. In return, the United States covenants not to sue the Hawker Parties under CERCLA for any pre-petition response costs at the four sites.

The publication of this notice opens a period for public comment on the Stipulation and Order. Comments should be addressed to the Assistant Attorney General, Environment and Natural Resources Division, and should refer to In re Hawker Beechcraft, Inc., D.J. Ref. No. 90-11-3-10751. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Stipulation and Order may be examined and downloaded at this Justice Department Web site: https://www.justice.gov/enrd/consent-decrees. We will provide a paper copy of the Stipulation and Order upon written request and payment of reproduction costs. Please mail your request and payment to: Consent Decree Library, U.S. DOJ—ENRD, P.O. Box 7611, Washington, DC 20044-7611.

Please enclose a check or money order for $6.00 (25 cents per page reproduction cost) payable to the United States Treasury.

Susan M. Akers,
Assistant Section Chief, Environment and Natural Resources Division.

[FR Doc. 2017-25636 Filed 11-27-17; 8:45 am]

BILLING CODE 4410-15-P